NATIONAL AERONAUTICS AND SPACE ADMINISTRATION

14 CFR Part 1260

RIN 2700-AC95

NASA Grant and Cooperative Agreement Handbook—Central Contractor Registration

AGENCY: National Aeronautics and Space Administration (NASA).

ACTION: Final rule.

SUMMARY: This final rule amends the NASA Grant and Cooperative Agreement Handbook (Handbook) by requiring applicants for grants and cooperative agreements to include their Dun and Bradstreet, Data Universal Numbering System (DUNS) number in their proposal submissions; and register in the Central Contractor Registration (CCR) database prior to submitting a proposal instead of before award. This change is required to prepare for NASA integration with the interagency portal for grant application submission at http://www.grants.gov.

EFFECTIVE DATE: January 21, 2004.

FOR FURTHER INFORMATION CONTACT: Suzan P. Moody, NASA Headquarters, Code HK, Washington, DC, (202) 358-0503, e-mail: Suzan.P.Moody@nasa.gov.

SUPPLEMENTARY INFORMATION:

A. Background

The Handbook currently requires grant officers to use DUNS numbers to verify that prospective awardees are registered in the CCR database. This policy effectively requires applicants to obtain a DUNS number and register in the CCR database prior to award but not necessarily prior to proposal submission. This change to the Handbook will to require applicants to complete these requirements prior to proposal submission. This change is made in preparation for NASA integration with the interagency portal for grant application submission at http://www.grants.gov, and is necessary because Grants.gov plans to require CCR registration. Additionally, administrative changes are made to update the CCR contact information and remove background information on the Integrated Financial Management (IFM) system to reflect agency-wide implementation of the IFM system.

B. Regulatory Flexibility Act

NASA certifies that this final rule will not have a significant economic impact on a substantial number of small entities within the meaning of the Regulatory Flexibility Act, 5 U.S.C. 601 et seq., because the changes do not impose additional requirements. The changes only modify the timing of existing requirements.

C. Paperwork Reduction Act

The Paperwork Reduction Act does not apply because this final rule does not impose any new recordkeeping or information collection requirements, or collection of information from offerors, contractors, or members of the public that require the approval of the Office of Management and Budget under 44 U.S.C. 3501, et seq.

List of Subjects in 14 CFR Part 1260

Grant Programs—Science and Technology.

Tom Luedtke,
Assistant Administrator for Procurement.

Accordingly, 14 CFR Part 1260 is amended as follows:

PART 1260—GRANTS AND COOPERATIVE AGREEMENTS

1. The authority citation for 14 CFR part 1260 continues to read as follows:

Authority: 42 U.S.C. 2473(c)(1), Pub. L. 97-258, 96 Stat. 1003 31 U.S.C. 6301, et seq.

2. Revise paragraph (b)(3) in § 1260.10 to read as follows:

§ 1260.10 Proposals.

* * * * *

(b) * * *

(3) A Dun and Bradstreet, Data Universal Numbering System (DUNS) number shall be included on the Cover Page of all proposal submissions. Before submitting a proposal, all applicants shall have an active registration in the Department of Defense, Central Contractor Registration (CCR) database and shall obtain a Commercial And Government Entity (CAGE) code. Prior to award, the grant officer shall verify active registration in the CCR database, by using the DUNS number or, if applicable, the DUNS+4 number, via the Internet at http://www.ccr.gov or by calling toll free: (888) 227-2423, commercial: (269) 961-5757.

* * * * *

[FR Doc. 04-1209 Filed 1-20-04; 8:45 am]

BILLING CODE 7510-01-P